DEPARTMENT OF COMMERCE

National Oceanic and Atmospheric Administration

RIN 0648-XE009

Marine Mammals; File Nos. 18722, 18897, 19425, and 19497

AGENCY: National Marine Fisheries Service (NMFS), National Oceanic and Atmospheric Administration (NOAA), Commerce.

ACTION: Notice; issuance of permits.

SUMMARY: Notice is hereby given that permits have been issued to the following entities to receive, import, and export specimens of marine mammals for scientific research:

Permit No. 18722: Cornell University, 157 Biotechnology Building, Ithaca, NY 14850 [Responsible Party: Sharron Mitchell, Ph.D.];

Permit No. 18897: Kathleen Colegrove, Ph.D., University of Illinois, College of Veterinary Medicine, Zoological Pathology Program, LUMC Room 0745, Building 101, 2160 South First Street, Maywood, IL 60153;

Permit No. 19425: Melissa McKinney, Ph.D., University of Connecticut, Center for Environmental Sciences and Engineering, 3107 Horsebarn Hill Road, U-4210, Storrs, CT 06269; and

Permit No. 19497: University of Florida, College of Veterinary Medicine, Department of Infectious Diseases and Pathology V3-100, VAB, PO BOX 110880, Gainesville, FL, 32611-0880 [Responsible Party: Thomas B. Waltzek, D.V.M., Ph.D.].

ADDRESSES: The permits and related documents are available for review upon written request or by appointment in the Permits and Conservation Division, Office of Protected Resources, NMFS, 1315 East-West Highway, Room 13705, Silver Spring, MD 20910; phone (301) 427-8401; fax (301) 713-0376.

FOR FURTHER INFORMATION CONTACT: The following Analysts at (301) 427-8401: Rosa L. González (Permit No. 19497), Carrie Hubard (Permit No. 19425), Brendan Hurley (Permit Nos. 18722 and 18897) and Jennifer Skidmore (Permit Nos. 18722, 18897, 19425, and 19497).

SUPPLEMENTARY INFORMATION: On June 26, 2015, notice was published in the Federal Register (80 FR 36768) that four requests for permits to receive, import, and export specimens of marine mammals for scientific research had been submitted by the above-named applicants. The requested permits have been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

Permit No. 18722 authorizes Cornell University to receive, import, or export unlimited samples from up to 2000 pinnipeds (excluding walrus) and 2000 cetaceans world-wide. These samples will be used for genotyping on marine mammals including trait mapping, population/ecological studies, and germplasm characterization. No live animals would be harassed or taken, lethally or otherwise, under the authorized permit. The permit is valid through August 10, 2020.

Permit No. 18897 authorizes Dr. Colegrove to import unlimited biological samples from up to 100 individual cetaceans and up to 100 individual pinnipeds (except walrus) world-wide. All samples (bones and organ tissue samples) are being imported for diagnostic testing to determine the causes of outbreaks or unusual natural mortalities, the ecology of diseases in free-ranging animals, or unexpected mortalities in captive populations. Samples will be from animals found deceased or euthanized in nature, collected opportunistically during the animals' capture by other researchers possessing permits for such activities, or legally held in captivity (including those held for rehabilitation) outside the U.S. No live animals would be harassed or taken, lethally or otherwise, under the authorized permit. The permit is valid through August 10, 2020.

Permit No. 19425 authorizes Dr. McKinney to study marine mammal contaminant levels, specifically using fatty acid and stable isotopes to examine diets and contaminant loads and how they are affected by climate change. Tissue samples from cetaceans and pinnipeds may come from remote biopsy sampling, captured animals, and animals collected during subsistence harvests and may originate in the United States, Canada, and Greenland/Denmark. Samples (up to 50 of each species group per year, except for those species specified below) will be analyzed, with a focus on the following Arctic species: Ringed seal (30 per year), bearded seal (10 per year), and narwhal (10 per year). No live animals would be harassed or taken, lethally or otherwise, under the authorized permit. The permit is valid through August 1, 2020.

File No. 19497 authorizes the University of Florida to receive, import, and export marine mammal tissue and other specimen materials (e.g., body fluids) to research the etiologies and cofactors of emerging marine mammal infectious diseases, utilizing standard molecular and sequencing approaches. Unlimited samples from up to 300 individual cetaceans and 700 individual pinnipeds (excluding walrus) are authorized to be received, imported, or exported annually on an opportunistic basis. They will be collected by others under separate existing permits and may be obtained from the following sources: (1) Animals killed during legal U.S. or foreign subsistence harvests; (2) animals stranded alive or dead in foreign countries; (3) animals that died incidental to commercial fishing operations in the U.S. where such taking is legal (i.e., bycatch); (4) animals that died incidental to commercial fishing operations in foreign countries where such taking is legal; (5) animals in captivity where samples were taken as a result of routine husbandry procedures or under separate permit; and (6) samples from other authorized researchers or collections in academic, federal, state or other institutions involved in marine mammal research in the U.S. or abroad. Samples collected from stranded animals in the U.S. and received under separate authorization may be exported and re-imported. No takes of live animals are requested or would be permitted. The permit is valid through July 31, 2020.

In compliance with the National Environmental Policy Act of 1969 (42 U.S.C. 4321 et seq.), a final determination has been made that the activities proposed are categorically excluded from the requirement to prepare an environmental assessment or environmental impact statement.

As required by the ESA, issuance of these permits was based on a finding that such permits: (1) Were applied for in good faith; (2) will not operate to the disadvantage of such endangered species; and (3) are consistent with the purposes and policies set forth in section 2 of the ESA.

Dated: August 25, 2015.
Julia Harrison,
Chief, Permits and Conservation Division, Office of Protected Resources, National Marine Fisheries Service.

[FR Doc. 2015-21390 Filed 8-28-15; 8:45 am]

BILLING CODE 3510-22-P